DEPARTMENT OF THE INTERIOR

Bureau of Land Management

[NV-010-07-1990-EX; N-78123]

Notice of Availability of a Draft Environmental Impact Statement for the Newmont Mining Corporation Proposed Emigrant Project Plan of Operations, NV

AGENCY: Bureau of Land Management, Interior.

ACTION: Notice of availability (NOA).

SUMMARY: In accordance with section 102(2)(c) of the National Environmental Policy Act of 1969 and 43 CFR Part 3809, the Bureau of Land Management (BLM) Elko Field Office has prepared with the assistance of a third party contractor, a Draft Environmental Impact Statement (DEIS) on Newmont Mining Corporation's proposed Emigrant Project Plan of Operations. The project area is located in Elko County about ten miles south of Carlin, Nevada. The DEIS analyzes potential environmental impacts that could result from the open pit mine project during the projected 10-year operating period. This is the second DEIS issued for this project. The original DEIS was issued March 25, 2005.

DATES: The DEIS is now available for comment. Written comments on the DEIS will be accepted until January 5, 2009.

ADDRESSES: The public may submit comments by the following methods:

Mail: Bureau of Land Management, Elko Field Office, Attn: Emigrant Mine Project Manager, 3900 East Idaho Street, Elko, NV 89801;

Fax: (775) 753-0255.

FOR FURTHER INFORMATION CONTACT: Tom Schmidt, Project Manager, Elko Field Office, 3900 East Idaho Street, Elko, NV 89801; (775) 753-0200.

SUPPLEMENTARY INFORMATION: A DEIS for this project was originally issued March 25, 2005. Substantive comments were received on that DEIS. This new DEIS, which incorporates revisions made in response to those comments, is being issued to replace the 2005 DEIS.

Newmont Mining Corporation has submitted a Plan of Operations to open the Emigrant Mine about ten miles south of Carlin, Nevada. Modifications to the proposed plan have been made based upon new information pertinent to the proposed action and its effects. The mine and associated facilities would be located in portions of Sections 24, 26, 34, 36 of T. 32 N., R. 53 E.; and Sections 1, 2, 3, 11, 12, T. 31 N., R 53 E. Mt. Diablo Meridian, Nevada.

The revised proposal for the Emigrant Mine would include developing and operating an open pit mine, constructing a waste rock disposal facility, storing oxide waste in mined out areas of the pit, developing an oxide heap leach pad, constructing ancillary facilities, temporarily rerouting intermittent stream and flows in the pit area, and concurrent reclamation. Proposed mining operations would last approximately 10 years through 2017. Approximately 1,172 acres of public land and 260 acres of private land would be disturbed.

The issues analyzed in the DEIS include potential direct, indirect, and cumulative impacts to wildlife and cultural resources, the potential for waste rock, heap leach, and pit walls to produce acid rock drainage or heavy metals, and diversion of an unnamed drainage. In addition, the following resources are analyzed: geology and minerals, Native American religious concerns, air quality, paleontology, lands and realty, fisheries and aquatic resources, range management, vegetation, soils, visual resources, recreation and wilderness, weeds, social and economic values, environmental justice, and threatened, endangered, candidate, and sensitive species.

The DEIS analyzes the proposed action and no action alternatives. Other alternatives considered and reasons why they were eliminated from detailed analysis are discussed. Measures to avoid or minimize environmental impacts and to assure the proposed action does not result in undue or unnecessary degradation of public lands are included. This DEIS can be reviewed and/or downloaded from the BLM Elko Web page at http://www.blm.gov/nv/st/en/fo/elko_field_office.html.

The BLM is asking the public to comment on the DEIS. Comments, including names and street addresses of respondents, will be available for public review at the above address during regular business hours 7:30 a.m. to 4:30 p.m., Monday through Friday, except holidays, and may be published as part of the DEIS. Before including your address, phone number, e-mail address, or other personal identifying information in your comment, be advised that your entire comment—including your personal identifying information—may be made publicly available at any time. While you can ask us in your comment to withhold from public review your personal identifying information, we cannot guarantee that we will be able to do so.

All submissions from organizations or businesses, and from individuals identifying themselves as representatives or officials of organizations or businesses, will be available for public inspection in their entirety.

Gene Seidlitz,
Field Manager.

[FR Doc. E8-27455 Filed 11-18-08; 8:45 am]

BILLING CODE 4310-$$-P